FEDERAL COMMUNICATIONS COMMISSION

Report No. 2382

Petition for Reconsideration and Clarification of Action in Rulemaking Proceeding

January 14, 2000.

Petition for Reconsideration and Clarification has been filed in the Commission's rulemaking proceeding listed in this Public Notice and published pursuant to 47 CFR Section 1.429(e). The full text of this document is available for viewing and copying in Room CY-A257, 445 12th Street, SW., Washington, DC or may be purchased from the Commission's copy contractor, ITS, Inc. (202) 857-3800. Oppositions to this petition must be filed by February 7, 2000. See Section 1.4(b)(1) of the Commission's rules (47 CFR 1.4(b)(1)). Replies to an opposition must be filed within 10 days after the time for filing oppositions has expired.

Subject: Amendment of the Amateur Service Rules to Provide for Greater Use of Spread Spectrum Communications Technologies (WT Docket No. 97-12, RM-8737).

Number of Petitions Filed: 1.

Federal Communications Commission.

Magalie Roman Salas,
Secretary.

[FR Doc. 00-1463 Filed 1-20-00; 8:45 am]

BILLING CODE 6712-01-M